DEPARTMENT OF DEFENSE

Department of the Navy

Notice of Availability of Buildings and Land at the Former Military Installation, U.S. Naval Station (NAVSTA) Roosevelt Roads, Ceiba, Puerto Rico

AGENCY: Department of the Navy, DOD.

ACTION: Notice.

SUMMARY: This notice provides information regarding surplus property at the former NAVSTA Roosevelt Roads, Ceiba, PR.

FOR FURTHER INFORMATION CONTACT: Mr. Jimmy Anderson, Deputy, Base Development, Southern Division, Naval Facilities Engineering Command, 2155 Eagle Dr, North Charleston, SC 29419, telephone 843-820-5795. For information regarding real estate, contact Ms. Sandy Frantz, Realty Specialist, Integrated Product Team, Caribbean, Atlantic Division, Naval Facilities Engineering Command, 6506 Hampton Blvd, Norfolk, VA 23508-1278, telephone 757-322-4926. For information regarding facilities infrastructure, contact Mr. Bob Bush, Deputy Ops Officer, Integrated Product Team, Caribbean, Atlantic Division, Naval Facilities Engineering Command, 6506 Hampton Blvd, Norfolk, VA 23508-1278, telephone 757-322-8350.

SUPPLEMENTARY INFORMATION: On March 31, 2004, NAVSTA Roosevelt Roads closed pursuant to the Department of Defense Appropriations Act of FY04, Public Law 108-87, Section 8132 (a). The closure provided for in Section 8132(a), and subsequent disposal, shall be carried out in accordance with the procedures and authorities contained in the Defense Base Closure and Realignment Act of 1990 (DBCRA), as amended. On April 16, 2004, approximately 8,422.5 acres were determined surplus to the Federal government. It was made available for use by (a) non-Federal public agencies pursuant to various statutes which authorize conveyance of property for public projects, and (b) homeless assistance providers pursuant to the Base Closure Community Redevelopment and Homeless Assistance Act of 1994.

Redevelopment Authority: The Local Redevelopment Authority (LRA) for the former NAVSTA Roosevelt Roads, Ceiba, PR, for purposes of implementing the provisions of the DBCRA is the Puerto Rico Department of Economic Development and Commerce. The LRA point of contact is Ms. Lilly A. Oronoz Rodriguez, Assistant Secretary, Federal and International Affairs, Department of Economic Development and Commerce, 355 Ave F. D. Roosevelt, Hato Rey, PR 00918, telephone 787-765-2900 X4752.

Surplus Property Descriptions: The following is a listing of the land and facilities at former NAVSTA Roosevelt Roads, Ceiba, PR, that were declared surplus to the Federal government on April 16, 2004.

Land: Approximately 8,422.5 acres of improved and unimproved land at the former NAVSTA Roosevelt Roads, Ceiba, PR.

Buildings and Structures: The following is a summary of the facilities located on the above-described land. There are approximately 1,617 buildings and structures. This includes public works buildings, housing, visitor lodging, recreational areas, commissary and exchange, hospital, schools, fire stations, airfield with an 11,000-foot runway and hangars, warehouses, marina, cargo and fuel piers, pistol ranges, fuel tanks, wastewater treatment plants, water filtration plant, water reservoir, sanitary landfill, and electric utility systems.

Expressions of Interest: Pursuant to Section 2905(b)(7)(C) of the DBCRA, state and local governments, representatives of the homeless, and other interested parties located in the vicinity of the former NAVSTA Roosevelt Roads, Ceiba, PR, shall submit to the said local redevelopment authority a notice of interest, if any, of such governments, representatives, and parties in the above-described surplus property, or any portion thereof. A notice of interest shall describe the need of the government, representative, or party concerned for the desired surplus property. Pursuant to Section 2905(b)(7)(C) and (D) of DBCRA, the redevelopment authority shall assist interested parties in evaluating the surplus property for the intended use and publish in a newspaper of general circulation in PR, the date by which expressions of interest must be submitted. In accordance with Section 2905(b)(7)(D)(ii) of said act, the submission date established by the LRA shall be no earlier than three months and not later than six months after the date of publication by the Department of Defense of the notice of surplus property at the former NAVSTA Roosevelt Roads in a newspaper of general circulation in PR.

Dated: April 29, 2004.
S. A. Hughes,
Lieutenant Commander, Judge Advocate General's Corps, U.S. Navy, Federal Register Liaison Officer.

[FR Doc. 04-10058 Filed 4-30-04; 8:45 am]

BILLING CODE 3810-FF-P